DEPARTMENT OF JUSTICE

Antitrust Division

Notice Pursuant to the National Cooperative Research and Production Act of 1993-Connected Media Experience, Inc.

Notice is hereby given that, on June 8, 2012, pursuant to Section 6(a) of the National Cooperative Research and Production Act of 1993, 15 U.S.C. 4301 et seq. (“the Act”), Connected Media Experience, Inc. (“CMX”) filed written notifications simultaneously with the Attorney General and the Federal Trade Commission disclosing changes in its membership. The notifications were filed for the purpose of extending the Act's provisions limiting the recovery of antitrust plaintiffs to actual damages under specified circumstances. Specifically, Microsoft Corporation, Redmond, WA; Dolby Laboratories, Inc., San Francisco, CA; and DTS, Inc., Calabasas, CA, have been added as members to this venture.

In addition, Push Entertainment Ltd., Bath, UNITED KINGDOM; Robin Berjon, (individual member), Paris, FRANCE; Topspin Media, Inc., San Francisco, CA; Vodafone Group Services Limited, Newbury, Berkshire, UNITED KINGDOM; Neustar, Inc., Sterling, VA; Brightcove, Inc., Cambridge, MA; and Deluxe Digital Studios, Inc., Burbank, CA, have withdrawn as parties to this venture.

No other changes have been made in either the membership or planned activity of the group research project. Membership in this group research project remains open, and CMX intends to file additional written notifications disclosing all changes in membership.

On March 12, 2010, CMX filed its original notification pursuant to Section 6(a) of the Act. The Department of Justice published a notice in the Federal Register pursuant to Section 6(b) of the Act on April 16, 2010 (75 FR 20003).

The last notification was filed with the Department on March 16, 2012. A notice was published in the Federal Register pursuant to Section 6(b) of the Act on April 13, 2012 (77 FR 22348).

Patricia A. Brink,
Director of Civil Enforcement, Antitrust Division.

[FR Doc. 2012-16510 Filed 7-5-12; 8:45 am]

BILLING CODE P